DEPARTMENT OF COMMERCE

International Trade Administration

[A-580-825]

Notice of Extension of Time Limit for Final Results of Administrative Review: Oil Country Tubular Goods, Other Than Drill Pipe, from Korea

AGENCY: Import Administration, International Trade Administration, Department of Commerce.

EFFECTIVE DATE: November 18, 2005.

FOR FURTHER INFORMATION CONTACT: Scott Lindsay or Nicholas Czajkowski, Office of AD/CVD Operations 6, Import Administration, International Trade Administration, U.S. Department of Commerce, 14th Street and Constitution Avenue, NW., Washington, DC 20230; telephone: (202) 482-0780 and (202) 482-1395, respectively.

SUPPLEMENTARY INFORMATION:

Background

On September 22, 2004, the Department of Commerce (“the Department”) published in the Federal Register the notice of initiation of the administrative review of the antidumping duty order on oil country tubular goods, other than drill pipe, from Korea, covering the period August 1, 2003, through July 31, 2004 (69 FR 56745). On September 8, 2005, the Department published the preliminary results of this administrative review. See Oil Country Tubular Goods, Other Than Drill Pipe, from Korea: Preliminary Results of Antidumping Duty Administrative Review (70 FR 53340).

Extension of Time Limits for Final Results

Section 751(a)(3)(A) of the Tariff Act of 1930, as amended (“the Act”), requires the Department to issue the preliminary results of an administrative review within 245 days after the last day of the anniversary month of an antidumping duty order for which a review is requested and issue the final results within 120 days after the date on which the preliminary results are published. However, if the Department finds it is not practicable to complete the review within the time period, section 751(a)(3)(A) of the Act allows the Department to extend these deadlines to a maximum of 365 days and 180 days, respectively.

Due to the complexity of issues related to the cost of production and because the Department intends to verify respondents' SeAH Steel Corporation's and Husteel Company, Ltd's. questionnaire responses, the Department finds that it is not practicable to complete the final results in this administrative review of oil country tubular goods, other than drill pipe, from Korea by January 6, 2006. Therefore, the Department is extending the time limit for completion of the final results until no later than March 7, 2006, in accordance with section 751(a)(3)(A) of the Act.

We are issuing and publishing this notice in accordance with sections 751(a)(1), 751(a)(3)(A), and 777(i)(1) of the Act.

Dated: November 10, 2005.
Stephen J. Claeys,
Deputy Assistant Secretary for Import Administration.

[FR Doc. E5-6390 Filed 11-17-05; 8:45 am]

BILLING CODE 3510-DS-S